DEPARTMENT OF HEALTH AND HUMAN SERVICES

42 CFR Parts 5 and 51c

RIN 0906-AA44

Designation of Medically Underserved Populations and Health Professional Shortage Areas

AGENCY: Health Resources and Services Administration, HHS.

ACTION: Proposed rule; status.

SUMMARY: The Health Resources and Services Administration (HRSA) received many substantive comments on the proposed rule and will consider these comments carefully. Based on a preliminary review of the comments, it appears that HRSA will need to make a number of changes in the proposed rule. Instead of issuing a final regulation as the next step, HHS will issue a new Notice of Proposed Rulemaking for further review and public comment prior to issuing a final rule.

FOR FURTHER INFORMATION CONTACT: Andy Jordan, 301-594-0197.

SUPPLEMENTARY INFORMATION: On February 29, 2008, HHS published a Notice of Proposed Rulemaking, “Designation of Medically Underserved Populations and Health Professional Shortage Areas” (73 FR 11232). The initial notice provided a 60-day comment period. Due to the level of interest in the proposed rule, two 30-day extensions of the comment period were published in the Federal Register, one on April 21, 2008 (73 FR 21300) and the second on June 2, 2008 (73 FR 31418). The latest comment period closed on June 30, 2008.

Dated: July 17, 2008.
Elizabeth M. Duke,
Administrator, Health Resources and Services Administration.

[FR Doc. E8-16831 Filed 7-22-08; 8:45 am]

BILLING CODE 4165-15-P